DEPARTMENT OF TRANSPORTATION

Federal Aviation Administration

Notice of Intent To Request Renewal From the Office of Management and Budget (OMB) of Four Current Collections of Information

AGENCY: Federal Aviation Administration (FAA), DOT.

ACTION: Notice.

SUMMARY: In compliance with the Paperwork Reduction Act (44 U.S.C. 3501 et seq.) the FAA invites public comment on four currently approved public information collections which will be submitted to OMB for renewal.

DATES: Comments must be received on or before August 29, 2000.

ADDRESSES: Comments may be mailed or delivered to the FAA at the following address: Ms. Judy Street, Room 613, Federal Aviation Administration, Standards and Information Division, APF-100 Independence Ave., SW., Washington, DC 20591.

FOR FURTHER INFORMATION CONTACT: Ms. Judy Street at the above address or on (202) 267-9895.

SUPPLEMENTARY INFORMATION: The FAA solicits comments on the following four current collections of information in order to evaluate the necessity of the collection, the accuracy of the agency's estimate of the burden, the quality, utility, and clarity of the information to be collected, and possible ways to minimize the burden of the collection. Following are short synopses of the information collection activities which will be submitted to OMB for review and renewal:

1. 2120-0033, Representatives of the Administrator, FAR 183. Title 49, U.S.C. 44702, authorizes appointment of properly qualified private persons to be representatives of the Administrator for examining, testing, and certifying airmen for the purpose of issuing those individuals airmen certificates. The information collected is used to determine eligibility of the representatives. There is an estimate of 7,000 respondents who will take an hour or less to prepare the appropriate application form for the job for which they are applying.

2. 2120-0607, Pilot Records Improvement Act of 1996. Section 502 of the Pilot Records Improvement Act of 1996, Public Law 104-264, requires that all air carriers (as defined in 49 U.S.C. 40102(a)(2)), request and receive FAA records, air carrier and other records, and National Driver Register records before hiring an individual as a pilot. An air carrier may use FAA forms 8060-10, and 8060-11, and the National Drivers Registry request form. The estimates in the past have been an estimated 21,000 respondents, with a burden of approximately 6,000 hours annually.

3. 2120-0611, AST Customer Service Survey. The FAA conducts surveys to obtain industry input on customer service standards that were developed by the FAA's Office of the Associate Administrator for Commercial Space Transportation (AST) and distributed to industry customers. The respondents will be an estimated 50 representatives of the U.S. commercial launch industry and other industry representatives from related industries. The data collected will be analyzed by AST to determine the quality of services provided by AST to its industry and government customers. The estimated annual burden is 50 hours.

4. 2120-0618, Overflight Bulling and Collections Customer Information Form. Information will be collected from air carriers that transit U.S. controlled airspace but do not take off or land in the U.S. This activity is commonly known as overflights. The information obtained from the customer information form will be used to properly identify and accurately bill carriers subject to overflight changes as well as obtain a name, telephone number and fax number for contact purposes. The respondents are an estimated 300-600 air carriers, for a total estimated burden of 50 hours.

Issued in Washington, DC, on June 26, 2000.
Steve Hopkins,
Manager, Standards and Information Division, APF-100.

[FR Doc. 00-16665 Filed 6-29-00; 8:45 am]

BILLING CODE 4910-13-M